FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010776-120

Title: Asia North America Eastbound Rate Agreement.

Parties:

A.P. Moller-Maersk Sealand

Hapag-Lloyd Container Linie GmbH

American President Lines, Ltd.

Mitsui O.S.K. Lines, Ltd.

Orient Overseas Container Line Limited

P&O Nedlloyd Limited

Kawasaki Kisen Kaisha, Ltd.

Nippon Yusen Kaisha

P&O Nedlloyd B.V.

APL Co. Pte Ltd.

Synopsis: The proposed agreement modification extends the current suspension of the conference for an additional six months, through May 1, 2002.

Agreement No.: 011745-002.

Title: Evergreen Lloyd Triestino Alliance Agreement.

Parties:

Evergreen Marine Corporation

Lloyd Triestino Di Navigazione S.P.A.

Synopsis: The proposed modification would allow the parties to charter space from each other on all vessels owned or controlled by the parties or on affiliates or subsidiaries of the parties when the party in question has been allocated space on its affiliate, the charter to be charged against that allocation. It also modifies the vessel commitment of each party to the arrangement. Expedited review has been requested.

Dated: September 21, 2001.
By Order of the Federal Maritime Commission.
Bryant L. VanBrakle,
Secretary.

[FR Doc. 01-24105 Filed 9-25-01; 8:45 am]

BILLING CODE 6730-01-P